DEPARTMENT OF THE INTERIOR

National Park Service

[NPS-WASO-NAGPRA-13875; PPWOCRADN0-PCU00RP14.R50000]

Notice of Inventory Completion: University of Denver Department of Anthropology and Museum of Anthropology, Denver, CO; Correction

AGENCY: National Park Service, Interior.

ACTION: Notice; correction.

SUMMARY: The University of Denver Museum of Anthropology has corrected an inventory of human remains and associated funerary objects, published in a Notice of Inventory Completion in the Federal Register on October 21, 2008. This notice corrects the control of the human remains and associated funerary objects from site 5CN26, Conejos County, CO.

ADDRESSES: Anne Amati, University of Denver Museum of Anthropology, 2000 E Asbury Avenue, Denver, CO 80210, telephone (303) 871-2687, email anne.amati@du.edu.

SUPPLEMENTARY INFORMATION: Notice is here given in accordance with the Native American Graves Protection and Repatriation Act (NAGPRA), 25 U.S.C. 3003, of the correction of an inventory of human remains and associated funerary objects under the control of the University of Denver Museum of Anthropology.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the control of the human remains and associated funerary objects from site 5CN26, Conejos County, CO, published in a Notice of Inventory Completion in the Federal Register (73 FR 62533-62535, October 21, 2008). The human remains and associated funerary objects in this paragraph are not under the control of the University of Denver Museum of Anthropology. Transfer of control of the items in this correction notice has not occurred.

Correction

In the Federal Register (73 FR 62533-62535, October 21, 2008), paragraph 4, sentences one and two are corrected by substituting the following sentences:

This notice corrects a Notice of Inventory Completion published in the Federal Register (66 FR 51472-51474, October 9, 2001) by deleting paragraphs 4-8 and 11-12, and substituting paragraphs 9-10 and 13-15. The original notice is corrected because after further consideration of museum records, consultation with tribal representatives and Federal agency officials, the controller for the minimum of three individuals of the original nine individuals described in the notice was misattributed and the cultural affiliation for the remaining six individuals was incorrect.

In the Federal Register (73 FR 62533-62535, October 21, 2008), paragraph 5, sentence three is corrected by substituting the following sentences:

The museum has also determined that control of the human remains and associated funerary objects in paragraphs 7-8 is misattributed for DU CO X:16:12 per 43 CFR 10.2(a)(3)(ii). A separate notice will be published by the Bureau of Land Management with that determination. Based on this information, paragraphs 7-8 and 11-12 are deleted from the original notice (66 FR 51472-51474, October 9, 2001).

In the Federal Register (73 FR 62533-62535, October 21, 2008), paragraph 6, sentence two is corrected by replacing the number seven with the number six.

In the Federal Register (73 FR 62533-62535, October 21, 2008), paragraph 8, sentences one and two are corrected by substituting the following sentences:

Museum officials have determined that the human remains in paragraphs 9-10 (DU CO V:9:GEA) have a cultural affiliation that can be narrowed to the present-day Pueblo tribes. The original notice 66 FR 51472-51474, October 9, 2001) is corrected by replacing paragraphs 9-10 with the following:

In the Federal Register (73 FR 62533-62535, October 21, 2008), paragraphs 9, 10, and 11 are corrected by removing the paragraphs in their entirety.

In the Federal Register (73 FR 62533-62535, October 21, 2008), paragraph 14, sentence one is corrected by deleting the catalogue number DU CO X:16:12.

In the Federal Register (73 FR 62533-62535, October 21, 2008), paragraph 16, sentences one and two are corrected by substituting the following sentences:

Officials of the University of Denver Department of Anthropology and Museum of Anthropology have determined that, pursuant to 25 U.S.C. 3001(9-10), the human remains described above represent the physical remains of a minimum of two individuals of Native American ancestry. Officials of the University of Denver Department of Anthropology and Museum of Anthropology also have determined that, pursuant to 25 U.S.C.3001(3)(A), the 50 objects described above are reasonably believed to have been placed with or near the individual human remains at the time of death or later as part of the death rite or ceremony.

Additional Requestors and Disposition

The University of Denver Museum of Anthropology is responsible for notifying the Hopi Tribe of Arizona; Ohkay Owingeh, New Mexico (formerly Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico that this notice has been published.

Dated: August 19, 2013.
Sherry Hutt,
Manager, National NAGPRA Program.

[FR Doc. 2013-25107 Filed 10-24-13; 8:45 am]

BILLING CODE 4312-50-P